FEDERAL COMMUNICATIONS COMMISSION

47 CFR Part 73

[DA 03-630; MM Docket No. 01-111; RM-10124, RM-10341]

Radio Broadcasting Services; Alamo and Milan, Georgia

AGENCY: Federal Communications Commission.

ACTION: Final rule.

SUMMARY: In response to a Notice of Proposed Rule Making, 66 FR 30366 (June 6, 2001) this Report and Order allots Channel 287C3 to Alamo, Georgia, and provides Alamo with its first local aural transmission service. This document also denies a mutually exclusive application filed by Tel-Dodge Broadcasting Co.(“Tel-Dodge”), licensee of Station WMCG(FM), Milan Georgia to change its transmitter site. The Commission compared the merits of Radio East Corp's rulemaking petition that proposed the allotment of Channel 287C3 to Alamo with those of Tel-Dodge's application, pursuant to the Commission's Revision of FM Assignment Policies and Procedures, 90 FCC 2d 88 (1982). The Commission preferred the rulemaking petition. The coordinates for Channel 287C3 at Alamo are 32-19-29 North Latitude and 82-43-23 West Longitude. This allotment has a site restriction of 20.4 kilometers (12.7 miles) north of Alamo.

DATES: Effective April 28, 2003.

FOR FURTHER INFORMATION CONTACT: R. Barthen Gorman, Media Bureau, (202) 418-2180.

SUPPLEMENTARY INFORMATION: This is a synopsis of the Commission's Report and Order, MM Docket No. 01-111, adopted March 12, 2003, and released March 14, 2003. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone 202 863-2893. facsimile 202 863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Georgia, is amended by adding Alamo, Channel 287C3.

Federal Communications Commission.
John A. Karousos,
Assistant Chief, Audio Division Media Bureau.

[FR Doc. 03-7470 Filed 3-27-03; 8:45 am]

BILLING CODE 6712-01-P